DEPARTMENT OF COMMERCE

National Oceanic and Atmospheric Administration

RIN 0648-XD706

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold a weeklong work session that is open to the public.

DATES: The GMT meeting will be held Monday, February 2, 2015 from 1 p.m. until business for the day is completed. The GMT meeting will reconvene Tuesday, February 3 through Friday, February 6 from 8:30 a.m. until business for each day has been completed.

ADDRESSES: The meetings will be held at the Hotel Deca, College Room, 4507 Brooklyn Avenue NE., Seattle, WA; telephone: (206) 634-2000.

Council address: Pacific Council, 7700 NE Ambassador Place, Suite 101, Portland, OR 97220-1384.

FOR FURTHER INFORMATION CONTACT: Ms. Kelly Ames, Pacific Council; telephone: (503) 820-2426.

SUPPLEMENTARY INFORMATION: The primary purpose of the GMT working meeting is to prepare for the 2015 Council meetings, including the upcoming harvest specifications and management measures cycle for 2017-18. Specific agenda topics include a review of the latest West Coast Groundfish Observer Program data; methodologies for estimating groundfish mortality and economic impacts for the 2017-18 analysis; ecosystem management initiatives; analysis of rebuilding revision rules; and further consideration for flexible management of annual catch limit set-asides. The GMT may also address other assignments relating to groundfish management. No management actions will be decided by the GMT. The GMT's task will be to develop recommendations for consideration by the Pacific Council at its meetings in 2015.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 5 days prior to the meeting date.

Dated: January 9, 2015.
Tracey L. Thompson,
Acting Deputy Director, Office of Sustainable Fisheries, National Marine Fisheries Service.

[FR Doc. 2015-00511 Filed 1-14-15; 8:45 am]

BILLING CODE 3510-22-P